DEPARTMENT OF THE INTERIOR

Bureau of Land Management

[NV-010-1430-ES; N-79079; 6-08807]

Notice of Realty Action: Recreation and Public Purposes Act Classification in Elko County, NV

AGENCY: Bureau of Land Management, Interior.

ACTION: Notice of Realty Action.

SUMMARY: The Bureau of Land Management (BLM) has examined and found suitable for classification for lease and subsequent conveyance under the provisions of the Recreation and Public Purposes (R&PP) Act, as amended, approximately 124.67 acres of public lands in Elko County, Nevada. The City of West Wendover proposes to use the lands for public buildings, including a new town hall and a convention center, parks and recreation, parking, and other public uses.

DATES: Interested parties may submit written comments regarding the proposed lease/conveyance or classification of the lands until January 16, 2007.

ADDRESSES: Mail written comments to the Elko Field Manager, Bureau of Land Management, Elko Field Office, 3900 E. Idaho, Elko, NV 89801.

FOR FURTHER INFORMATION CONTACT: Kirk Laird, Geologist, BLM Elko Field Office, (775) 753-0272.

SUPPLEMENTARY INFORMATION: The following described public lands in Elko County, Nevada have been examined and found suitable for lease and subsequent conveyance under the provisions of the R&PP Act, as amended (43 U.S.C. 869 et seq.) and are hereby classified accordingly. The lands include 124.67 acres within the City limits of West Wendover in 5 parcels described by metes and bounds which fall within:

Mount Diablo Meridian, Nevada

T. 33 N., R 70 E.

Sec. 8, S½SW¼ and S½SE¼;

Sec. 9, SW¼SW¼;

Sec. 16, NW¼NW¼.

The proposed developments in section 8 include a hospital, open space, and the Victory Highway Trail. Section 9 will include the proposed city hall and civic plaza. Section 16 will include the proposed public parking, open space, amphitheatre, convention center, city park, and performing arts center. The exact metes and bounds descriptions of the five parcels can be obtained from the BLM Elko Field Office, 3900 E. Idaho, Elko, NV, (775) 753-0200. The land is not needed for Federal purposes. The proposed actions are consistent with the BLM Wells Resource Management Plan, approved on July 16, 1985, and would be in the public interest. The Elko Field Office has received from the city of West Wendover an R&PP Act application, together with the requisite filing fee and supporting documents required by 43 CFR 2741.5. The City plans to use the lands for public buildings, including a new town hall and a convention center, parks and recreation, parking, interpretive walking trail, museum, hospital, library, civic center, amphitheatre performing arts center, and open space. Because the now abandoned Victory Highway runs through the parcels, the City of West Wendover has committed to minimizing damage to this historic property, constructing informational kiosks, and incorporating the remnants of the highway into a city recreational trails plan.

The lease/conveyance, when issued, will be subject to the provisions of the R&PP Act and applicable regulations of the Secretary of the Interior, and will contain the following reservations to the United States:

1. A right-of-way for ditches and canals constructed by the authority of the United States, Act of August 30, 1890 (43 U.S.C. 945); and

2. All mineral deposits in the land leased or patented, and to it, or persons authorized by it, the right to prospect for, mine, and remove such deposits from the lands under applicable law and regulations to be established by the Secretary of the Interior.

The lease/conveyance will be subject to:

1. All valid existing rights;

2. A right-of-way for telephone and telegraph lines granted to Beehive Telephone Company, by right-of-way NVE 001655 (Elko 1655), pursuant to the Act of October 21, 1976 (43 U.S.C.1761);

3. A right-of-way for interstate energy facilities granted to Wells Rural Electric, by right-of-way N-39088, pursuant to the Act of October 21, 1976 (43 U.S.C.1761);

4. A right-of-way for fiber optic facilities granted to Beehive Telephone Company, by right-of-way N-047793, pursuant to the Act of October 21, 1976 (43 U.S.C.1761);

5. A right-of-way for power lines granted to Wells Rural Electric, by right-of-way N-52413, pursuant to the Act of October 21, 1976 (43 U.S.C.1761); and

6. A right-of-way for power lines granted to Wells Rural Electric, by right-of-way N-064049, pursuant to the Act of October 21, 1976 (43 U.S.C. 1761).

Upon publication of this notice in the Federal Register, the lands will be segregated from all forms of appropriation under the public land laws, including the general mining laws, except for lease or conveyance under the R&PP Act, leasing under the mineral leasing laws, and disposals under the mineral material laws.

Detailed information concerning the proposed lease/conveyance, including conditions, planning and environmental documents, is available for inspection at the BLM Elko Field Office at the address stated above in this notice.

Classification Comments: Interested parties may submit written comments regarding the proposed classification of the lands to the BLM Elko Field Office, for a period of 45 days following publication of this notice in the Federal Register. Facsimiles, telephone calls, and electronic mail will not be considered acceptable submissions by the authorized officer.

Comments on the classification are restricted to four subjects:

(1) Whether the lands are physically suited for the proposal;

(2) whether the use will maximize the future use or uses of the lands;

(3) whether the use is consistent with local planning and zoning; or

(4) whether the use is consistent with State and Federal programs.

Application Comments: Interested parties may submit written comments regarding the specific uses proposed in the application and plan of development, whether the BLM followed proper administrative procedures in reaching the decision, or any other factor not directly related to the suitability of the lands for the requested R&PP uses. Facsimiles, telephone calls, and electronic mail will not be considered acceptable submissions by the authorized officer.

Comments received during this process, including respondent's name, address, and other contact information will be available for public review. Individual respondents may request confidentiality. If you wish to request that BLM consider withholding your name, address, and other contact information from public review or disclosure under the Freedom of Information Act, you must state this prominently at the beginning of your comment. The BLM will honor requests for confidentiality on a case-by-case basis to the extent allowed by law. The BLM will make available for public review, in their entirety, all comments submitted by businesses or organizations, including comments by individuals in their capacity as an official or representative of a business or organization.

Any adverse comments will be reviewed by the State Director. In the absence of any adverse comments, this classification action will become the final determination of the Department of the Interior January 30, 2007. The lands will not be available for lease/conveyance until after the classification becomes effective.

(Authority: 43 CFR 2741.5)

Dated: August 30, 2006.
Helen Hankins,
Manager, Elko Field Office.

[FR Doc. E6-20308 Filed 11-30-06; 8:45 am]

BILLING CODE 4310-HC-P